DEPARTMENT OF COMMERCE

International Trade Administration

[A-357-810) (A-475-816) (C-475-817) (A-588-835) (A-580-825) (A-201-817]

Continuation of Countervailing and Antidumping Duty Orders on Oil Country Tubular Goods From Argentina, Italy, Japan, Korea and Mexico, and Partial Revocation of Those Orders From Argentina and Mexico With Respect to Drill Pipe

AGENCY: Import Administration, International Trade Administration, Department of Commerce.

ACTION: Notice of continuation of countervailing and antidumping duty orders on oil country tubular goods from Argentina, Italy, Japan, Korea and Mexico, and partial revocation of those orders from Argentina and Mexico with respect to drill pipe.

SUMMARY: The Department of Commerce (“the Department”), pursuant to sections 751(c) of the Tariff Act of 1930, as amended (“the Act”), determined that revocation of the countervailing duty order on oil country tubular goods (“OCTG”) from Italy, and the antidumping duty orders on OCTG from Argentina, Italy, Japan, Korea and Mexico would be likely to lead to continuation or recurrence of a countervailable subsidy and dumping.¹

¹ See Oil Country Tubular Goods (“OCTG”) From Italy; Final Results of Sunset Review of Countervailing Duty Order, 66 FR 13910 (March 8, 2001), Oil Country Tubular goods (“OCTG”) From Mexico; Final Results of Sunset Review of Antidumping Duty Order, 66 FR 14131 (March 9, 2001), and Final Results of Expedited Sunset Reviews; Oil Country Tubular Goods From Argentina, Italy, Japan, and Korea, 65 FR 66701 (November 7, 2000).

On July 10, 2001, the International Trade Commission (“the Commission”), pursuant to section 751(c) of the Act, determined that revocation of the countervailing duty order on OCTG other than drill pipe from Italy,² the antidumping duty orders on OCTG other than drill pipe from Argentina, Italy, Korea, and Mexico, and the antidumping duty order on OCTG, inclusive of drill pipe, from Japan would be likely to lead to continuation or recurrence of material injury to an industry in the United States within a reasonably foreseeable time (66 FR 35997 (July 10, 2001)). The Commission also determined that partial revocation of the antidumping duty orders on OCTG with respect to drill pipe from Argentina and Mexico would not be likely to lead to continuation or recurrence of material injury to an industry in the United States within a reasonably foreseeable time (66 FR 35997 (July 10, 2001)).

² In the original investigation, the ITC in its final determination determined the like products to be drill pipe and OCTG other than drill pipe. In addition, in its original investigation the ITC went negative on drill pipe from Italy and Korea. See USITC Publication 3434 (June 2001), Investigation Nos. 701-TA-364, 731-TA-711, and 713-716 (Reviews), p.5.

Pursuant to 751(d)(2) of the Act and 19 CFR 351.218(f)(4), the Department is publishing this notice of the continuation of the countervailing duty order on OCTG other than drill pipe from Italy, the antidumping duty orders on OCTG other than drill pipe from Argentina, Italy, Korea and Mexico, and the antidumping duty order on OCTG, inclusive of drill pipe, from Japan.

In addition, pursuant to section 751(d)(2) of the Act and 19 CFR 351.222(i)(2)(i), the Department is revoking, in part, the antidumping duty orders on OCTG from Argentina and Mexico with respect to drill pipe. Pursuant to section 751(c)(6)(A)(iv) of the Act and 19 CFR 351.222(i)(2)(i) the effective date of this partial revocation of the order on OCTG from Argentina and Mexico is August 11, 2000 (the fifth year after the date of publication of the order).

EFFECTIVE DATE: July 25, 2001.³

³ The effective date for the continuation of the orders is the date of publication of this Federal Regisater notice. The effective date for the partial revocations is August 11, 2000 (the fifth yaer after the date of publication of the order).

FOR FURTHER INFORMATION CONTACT: Martha V. Douthit or James P. Maeder, Office of Policy for Import Administration, International Trade Administration, U.S. Department of Commerce, 14th Street and Constitution Ave., NW, Washington, DC 20230; telephone: (202) 482-5050 or (202) 482-3330, respectively.

SUPPLEMENTARY INFORMATION:

Background

On July 3, 2000, the Department initiated (65 FR 41053), and the Commission instituted (65 FR 41088), sunset reviews of the countervailing duty order on OCTG from Italy, and the antidumping duty orders on OCTG from Argentina, Italy, Japan, Korea and Mexico pursuant to section 751(c) of the Act. As a result of these reviews, the Department found that revocation of the countervailing and the antidumping duty orders would be likely to lead to continuation or recurrence of a countervailable subsidy and dumping, and notified the Commission of the magnitude of the margins likely to prevail were the orders revoked.⁴

⁴ See Oil Country Tubular Goods (“OCTG”) From Italy; Final Results of Sunset Review of Countervailing Duty Order, 66 FR 13910 (March 8, 2001), Oil Country Tubular goods (“OCTG”) From Mexico; Final Results of Sunset Review of Antidumping Duty Order, 66 FR 14131 (March 9, 2001), and Final Results of Expedited Sunset Reviews; Oil Country Tubular Goods From Argentina, Italy, Japan, and Korea, 65 FR 66701 (November 7, 2000).

On July 10, 2001, the Commission determined, pursuant to section 751(c) of the Act, that revocation of the countervailing duty order on OCTG other than drill pipe from Italy, the antidumping duty orders on OCTG other than drill pipe from Argentina, Italy, Korea and Mexico, and antidumping duty order on OCTG from Japan, inclusive of drill pipe, would be likely to lead to continuation or recurrence of material injury to an industry in the United States within a reasonably foreseeable time.⁵ The Commission also determined that partial revocation of the antidumping duty orders on OCTG from Argentina and Mexico with respect to drill pipe, would not be likely to lead to continuation or recurrence of material injury to an industry in the United States within a reasonably foreseeable time.⁶

Scope of Orders: See Appendix.⁷

⁵ See Oil Country Tubular Goods from Argentina, Italy, Japan, Korea, and Mexico, 66 FR 35997 (July 10, 2001) and USITC Publication 3434 (June 2001), Investigation Nos. 701-TA-364, 731-TA-711, and 713-716 (Reviews).

⁶ Id.

⁷ The original scope of the antidumping and countervailing duty orders with respect to Argentina, Japan, and Mexico contains drill pipe. The Commission determined that drill pipe was a separate like product and, consequently made separate determinations as to whether the revocation of the orders with respect to drill pipe would lead to the continuation or recurrence of injury to a U.S. industry. Because the Commission's determinations were negative with respect to drill pipe from Argentina and Mexico, the Department has altered the scope language to eliminate drill pipe and its associated HTSUS numbers with respect to those orders.

Determinations

As a result of the determinations by the Department and the Commission that revocation of the countervailing and antidumping duty orders would be likely to lead to continuation or recurrence of a countervailable subsidy, dumping, and material injury to an industry in the United States, pursuant to section 751(d)(2) of the Act, the Department hereby orders the continuation of the countervailing and antidumping duty orders on OCTG other than drill pipe from Argentina, Italy, Korea and Mexico, and the continuation of the antidumping duty order on OCTG, inclusive of drill pipe, from Japan. The effective date of continuation of the orders of the countervailing duty order on OCTG other than drill pipe from Italy, the antidumping duty orders on OCTG other than drill pipe on Argentina, Mexico, Italy, and Korea, and on OCTG, inclusive of drill pipe, from Japan will be the date of publication in the Federal Register of this notice of continuation. Pursuant to section 751(c)(2) and 751(c)(6) of the Act, the Department intends to initiate the next five-year review of these orders not later than June 2006.

With respect to drill pipe from Argentina and Mexico, as a result of the determination by the Commission that revocation is not likely to lead to continuation or recurrence of material injury to an industry in the United States, the Department, pursuant to section 751(d)(2) of the Act is revoking, in part, the antidumping duty orders on OCTG from Argentina and Mexico for drill pipe. Pursuant to section 751(c)(6)(A)(iv) of the Act and 19 CFR 351.222(i)(2)(i), revocation is effective August 11, 2000 (the fifth year after the date of publication of the order). The Department will instruct the Customs Service to discontinue the suspension of liquidation and collection of cash deposit rates on entries of the subject merchandise entered or withdrawn on or after August 11, 2000. The Department will complete any pending administrative reviews of these orders and will conduct administrative reviews of subject merchandise entered prior to the effective date of revocation in response to appropriately filed requests for review.

Dated: July 17, 2001.
Bernard T. Carreau,
Acting Assistant Secretary for Import Administration.

Appendix; Scope of Orders

Italy OCTG Other Than Drill Pipe (A-475-816)(C-475-817)

Oil country tubular goods are hollow steel products of circular cross-section, including only oil well casing and tubing, of iron (other than cast iron) or steel (both carbon and alloy), whether seamless or welded, whether or not conforming to American Petroleum Institute (“API”) or non-API specifications, whether finished or unfinished (including green tubes and limited service OCTG products). This scope does not cover casing or tubing pipe containing 10.5 percent or more of chromium, or drill pipe. The products subject to this order are currently classified in the following Harmonized Tariff Schedule of the United States (“HTSUS”) subheadings: 7304.20.10.10, 7304.20.10.20, 7304.20.10.30, 7304.20.10.40, 7304.20.10.50, 7304.20.10.60, 7304.20.10.80, 7304.20.20.10, 7304.20.20.20, 7304.20.20.30, 7304.20.20.40, 7304.20.20.50, 7304.20.20.60, 7304.20.20.80, 7304.20.30.10, 7304.20.30.20, 7304.20.30.30, 7304.20.30.40, 7304.20.30.50, 7304.20.30.60, 7304.20.30.80, 7304.20.40.10, 7304.20.40.20, 7304.20.40.30, 7304.20.40.40, 7304.20.40.50, 7304.20.40.60, 7304.20.40.80, 7304.20.50.15, 7304.20.50.30, 7304.20.50.45, 7304.20.50.60, 7304.20.50.75, 7304.20.60.15, 7304.20.60.30, 7304.20.60.45, 7304.20.60.60, 7304.20.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50. The HTSUS subheadings are provided for convenience and customs purposes. Our written description of the scope of these orders is dispositive.

Japan OCTG (A-588-835)

Oil country tubular goods are hollow steel products of circular cross-section, including oil well casing, tubing, and drill pipe, of iron (other than cast iron) or steel (both carbon and alloy), whether seamless or welded, whether or not conforming to American Petroleum Institute (“API”) or non-API specifications, whether finished or unfinished (including green tubes and limited-service OCTG products). This scope does not cover casing, tubing, or drill pipe containing 10.5 percent or more of chromium. The OCTG subject to this order are currently classified in the following HTSUS subheadings: 7304.21.30.00, 7304.21.60.30, 7304.21.60.45, 7304.21.60.60. 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50. The HTSUS subheadings are provided for convenience and customs purposes. Our written description of the scope of this order is dispositive.

Korea OCTG Other Than Drill Pipe (A-580-825)

Oil country tubular goods are hollow steel products of circular cross-section, including only oil well casing and tubing, of iron (other than cast iron) or steel (both carbon and alloy), whether seamless or welded, whether or not conforming to American Petroleum Institute (“API”) or non-API specifications, whether finished or unfinished (including green tubes and limited service OCTG products). This scope does not cover casing or tubing pipe containing 10.5 percent or more of chromium, or drill pipe. The products subject to this order are currently classified in the following HTSUS subheadings: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50. The HTSUS subheadings are provided for convenience and customs purposes. Our written description of the scope of this order is dispositive.

Argentina OCTG Other Than Drill Pipe (A-357-810)

Oil country tubular goods are hollow steel products of circular cross-section, including oil well casing and tubing of iron (other than cast iron) or steel (both carbon and alloy), whether seamless or welded, whether or not conforming to American Petroleum Institute (“API”) or non-API specifications, whether finished or unfinished (including green tubes and limited-service OCTG products). This scope does not cover casing or tubing pipe containing 10.5 percent or more of chromium, or drill pipe. The OCTG subject to this order are currently classified in the following HTSUS subheadings: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50. The HTSUS subheadings are provided for convenience and customs purposes. Our written description of the scope of this order is dispositive.

Mexico OCTG Other Than Drill Pipe (A-201-817)

The merchandise covered by this order are oil country tubular goods, hollow steel products of circular cross-section, including oil well casing and tubing of iron (other than cast iron) or steel (both carbon and alloy), whether seamless or welded, whether or not conforming to API or non-API specifications, whether finished or unfinished (including green tubes and limited-service OCTG products). This scope does not cover casing or tubing pipe containing 10.5 percent or more of chromium, or drill pipe. The OCTG subject to this order are currently classified in the HTSUS under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50. The Department has determined that couplings, and coupling stock, are not within the scope of the antidumping order on OCTG from Mexico. See Letter to Interested Parties; Final Affirmative Scope Decision, August 27, 1998. The HTSUS subheadings are provided for convenience and customs purposes. Our written description of the scope of this order is dispositive.

[FR Doc. 01-18565 Filed 7-24-01; 8:45 am]

BILLING CODE 3510-DS-P